DEPARTMENT OF ENERGY

Federal Energy Regulatory Commission

Combined Notice of Filings #1

Take notice that the Commission received the following electric corporate filings:

Docket Numbers: EC20-8-000.

Applicants: Rosewater Wind Farm LLC, RoseWater Wind Generation LLC.

Description: Application for Authorization Under Section 203 of the Federal Power Act, et al. of Rosewater Wind Farm LLC, et al.

Filed Date: 10/11/19.

Accession Number: 20191011-5213.

Comments Due: 5 p.m. ET 11/1/19.

Docket Numbers: EC20-9-000.

Applicants: GenOn Mid-Atlantic, LLC.

Description: Application for Authorization Under Section 203 of the Federal Power Act, et al. of GenOn Mid-Atlantic, LLC.

Filed Date: 10/11/19.

Accession Number: 20191011-5215.

Comments Due: 5 p.m. ET 11/1/19.

Docket Numbers: EC20-10-000.

Applicants: Prairie Wind Transmission, LLC.

Description: Application for Authorization Under Section 203 of the Federal Power Act of Prairie Wind Transmission, LLC.

Filed Date: 10/15/19.

Accession Number: 20191015-5289.

Comments Due: 5 p.m. ET 11/5/19.

Take notice that the Commission received the following exempt wholesale generator filings:

Docket Numbers: EG20-9-000.

Applicants: Reading Wind Energy, LLC.

Description: Notice of Self-Certification of Reading Wind Energy, LLC.

Filed Date: 10/11/19.

Accession Number: 20191011-5250.

Comments Due: 5 p.m. ET 11/1/19.

Take notice that the Commission received the following electric rate filings:

Docket Numbers: ER17-2345-001; ER10-2821-006; ER10-2834-006; ER11-2904-005; ER11-2905-005; ER12-1329-006; ER12-2145-006; ER17-1438-001; ER17-987-002.

Applicants: EC&R Energy Marketing, LLC, EC&R O&M, LLC, Iron Horse Battery Storage, LLC, Munnsville Wind Farm, LLC, Pioneer Trail Wind Farm, LLC, Radford's Run Wind Farm, LLC, Settlers Trail Wind Farm, LLC, Stony Creek Wind Farm, LLC, Wildcat Wind Farm I, LLC.

Description: Notice of Non-Material Change in Status of RWE MBR Entities.

Filed Date: 10/11/19.

Accession Number: 20191011-5197.

Comments Due: 5 p.m. ET 11/1/19.

Docket Numbers: ER19-2081-001.

Applicants: Midcontinent Independent System Operator, Inc., Michigan Electric Transmission Company, LLC, Consumers Energy Company.

Description: Compliance filing: 2019-10-15_SA 1926 & SA 3315 Compliance Filing for METC-CE DTIA and TSA to be effective 9/30/2019.

Filed Date: 10/15/19.

Accession Number: 20191015-5260.

Comments Due: 5 p.m. ET 11/5/19.

Docket Numbers: ER19-2508-002.

Applicants: Southwest Power Pool, Inc.

Description: Tariff Amendment: 3215R6 People's Electric Cooperative NITSA NOA-Amended to be effective 7/1/2019.

Filed Date: 10/15/19.

Accession Number: 20191015-5174.

Comments Due: 5 p.m. ET 11/5/19.

Docket Numbers: ER20-91-000.

Applicants: Duke Energy Kentucky, Inc.

Description: Petition for Limited Waiver, et al. of Duke Energy Kentucky, Inc.

Filed Date: 10/11/19.

Accession Number: 20191011-5074.

Comments Due: 5 p.m. ET 10/25/19.

Docket Numbers: ER20-95-000.

Applicants: California Independent System Operator Corporation.

Description: § 205(d) Rate Filing: 2019-10-11 EIM Implementation Agreement with BANC Phase 2 to be effective 12/11/2019.

Filed Date: 10/11/19.

Accession Number: 20191011-5184.

Comments Due: 5 p.m. ET 11/1/19.

Docket Numbers: ER20-96-000.

Applicants: Evergy Kansas Central, Inc.

Description: § 205(d) Rate Filing: Notice of Succession, Cost-Based Full Requirements Agreements to be effective 12/10/2019.

Filed Date: 10/11/19.

Accession Number: 20191011-5186.

Comments Due: 5 p.m. ET 11/1/19.

Docket Numbers: ER20-97-000.

Applicants: New England Power Company.

Description: § 205(d) Rate Filing: Revisions to Appendices to Large Generator IA with Great River Hydro, LLC to be effective 10/15/2019.

Filed Date: 10/11/19.

Accession Number: 20191011-5188.

Comments Due: 5 p.m. ET 11/1/19.

Docket Numbers: ER20-98-000.

Applicants: Evergy Kansas Central, Inc.

Description: § 205(d) Rate Filing: Notice of Succession, Cost-Based Vol. No. 20 Tariff to be effective 12/16/2019.

Filed Date: 10/15/19.

Accession Number: 20191015-5006.

Comments Due: 5 p.m. ET 11/5/19.

Docket Numbers: ER20-99-000.

Applicants: Evergy Kansas Central, Inc.

Description: Compliance filing: Notice of Succession & Refile Baseline, OATT to be effective 12/16/2019.

Filed Date: 10/15/19.

Accession Number: 20191015-5007.

Comments Due: 5 p.m. ET 11/5/19.

Docket Numbers: ER20-100-000.

Applicants: Pacific Gas and Electric Company.

Description: § 205(d) Rate Filing: Balancing Accounts Update 2020 (TRBAA, RSBAA, ECRBAA) to be effective 1/1/2020.

Filed Date: 10/15/19.

Accession Number: 20191015-5008.

Comments Due: 5 p.m. ET 11/5/19.

Docket Numbers: ER20-101-000.

Applicants: Wisconsin Electric Power Company.

Description: Tariff Cancellation: Notice of Cancellation to be effective 9/1/2019.

Filed Date: 10/15/19.

Accession Number: 20191015-5010.

Comments Due: 5 p.m. ET 11/5/19.

Docket Numbers: ER20-102-000.

Applicants: Evergy Kansas Central, Inc.

Description: Tariff Cancellation: Request for Cancellation, Westar Energy's OATT Tariff Title Database to be effective 12/16/2019.

Filed Date: 10/15/19.

Accession Number: 20191015-5012.

Comments Due: 5 p.m. ET 11/5/19.

Docket Numbers: ER20-103-000.

Applicants: Evergy Kansas South, Inc.

Description: Baseline eTariff Filing: Baseline eTariff, Notice of Succession & Request for Extension of Time to be effective 10/16/2019.

Filed Date: 10/15/19.

Accession Number: 20191015-5013.

Comments Due: 5 p.m. ET 11/5/19.

Docket Numbers: ER20-104-000.

Applicants: Pacific Gas and Electric Company.

Description: Request for Waiver of Pacific Gas and Electric Company.

Filed Date: 10/11/19.

Accession Number: 20191011-5190.

Comments Due: 5 p.m. ET 11/1/19.

Docket Numbers: ER20-105-000.

Applicants: Public Service Company of Colorado.

Description: § 205(d) Rate Filing: PSCo-Nereo-GI-2016-15-E&P-556-0.0.0 Filing to be effective 10/16/2019.

Filed Date: 10/15/19.

Accession Number: 20191015-5026.

Comments Due: 5 p.m. ET 11/5/19.

Docket Numbers: ER20-106-000.

Applicants: ISO New England Inc.

Description: § 205(d) Rate Filing: ISO-NE 2020 Capital Budget and Recovery of 2020 Administrative Costs to be effective 1/1/2020.

Filed Date: 10/15/19.

Accession Number: 20191015-5120.

Comments Due: 5 p.m. ET 11/5/19.

Docket Numbers: ER20-107-000.

Applicants: ISO New England Inc.

Description: ISO New England Inc. submits Third Quarter 2019 Capital Budget Report.

Filed Date: 10/15/19.

Accession Number: 20191015-5176.

Comments Due: 5 p.m. ET 11/5/19.

Docket Numbers: ER20-108-000.

Applicants: Southwest Power Pool, Inc.

Description: § 205(d) Rate Filing: 3127R1 Montana-Dakota Utilities Co. NITSA and NOA to be effective 12/1/2019.

Filed Date: 10/15/19.

Accession Number: 20191015-5185.

Comments Due: 5 p.m. ET 11/5/19.

Docket Numbers: ER20-109-000

Applicants: PJM Interconnection, L.L.C.

Description: Tariff Cancellation: Notice of Cancellation of ISA and CSA Nos. 4538 and 4539, Queue No. AA2-085 to be effective 9/8/2019.

Filed Date: 10/15/19.

Accession Number: 20191015-5197.

Comments Due: 5 p.m. ET 11/5/19.

Docket Numbers: ER20-110-000.

Applicants: Alabama Power Company.

Description: § 205(d) Rate Filing: Atkinson County S1 (Atkinson Solar) LGIA Filing to be effective 9/30/2019.

Filed Date: 10/15/19.

Accession Number: 20191015-5207.

Comments Due: 5 p.m. ET 11/5/19.

Docket Numbers: ER20-111-000.

Applicants: ISO New England Inc.

Description: § 205(d) Rate Filing: ISO-NE; Revised Tariff Sheets for Recovery of Costs for 2020 Operation of NESCOE to be effective 1/1/2020.

Filed Date: 10/15/19.

Accession Number: 20191015-5209.

Comments Due: 5 p.m. ET 11/5/19.

Docket Numbers: ER20-112-000.

Applicants: PacifiCorp.

Description: § 205(d) Rate Filing: BPA NITSA (SE Idaho Area) Rev 4 to be effective 10/1/2019.

Filed Date: 10/15/19.

Accession Number: 20191015-5212.

Comments Due: 5 p.m. ET 11/5/19.

Docket Numbers: ER20-113-000.

Applicants: Evergy Missouri West, Inc.

Description: § 205(d) Rate Filing: Notice of Succesion, Rate Schedules and Agreements to be effective 12/16/2019.

Filed Date: 10/15/19.

Accession Number: 20191015-5242.

Comments Due: 5 p.m. ET 11/5/19.

Docket Numbers: ER20-114-000.

Applicants: Nevada Power Company.

Description: Tariff Cancellation: Cancellation of Service Agreement and Coordination Tariff (Volume No. 4) to be effective 12/15/2019.

Filed Date: 10/15/19.

Accession Number: 20191015-5275.

Comments Due: 5 p.m. ET 11/5/19.

Docket Numbers: ER20-115-000.

Applicants: Southwestern Electric Power Company.

Description: Informational Filing regarding postemployment benefits other than pensions and post-employment benefits of Southwestern Electric Power Company.

Filed Date: 10/15/19.

Accession Number: 20191015-5276.

Comments Due: 5 p.m. ET 11/5/19.

Docket Numbers: ER20-116-000.

Applicants: Evergy Metro, Inc.

Description: § 205(d) Rate Filing: Notice of Succession, Vol. No. 4, Rate Schedules Agreements & Other Tariffs to be effective 12/16/2019.

Filed Date: 10/15/19.

Accession Number: 20191015-5279.

Comments Due: 5 p.m. ET 11/5/19.

Docket Numbers: ER20-117-000.

Applicants: PJM Interconnection, L.L.C.

Description: § 205(d) Rate Filing: Original ISA, SA No. 5490; Queue No. AC1-071 to be effective 9/12/2019.

Filed Date: 10/15/19.

Accession Number: 20191015-5281.

Comments Due: 5 p.m. ET 11/5/19.

Docket Numbers: ER20-118-000.

Applicants: San Diego Gas & Electric Company.

Description: TO5 Formula Depreciation Rate Change For Common Plant and Electric General Plant of San Diego Gas & Electric Company.

Filed Date: 10/15/19.

Accession Number: 20191015-5284.

Comments Due: 5 p.m. ET 11/5/19.

Docket Numbers: ER20-119-000.

Applicants: Dominion Energy South Carolina, Inc.

Description: § 205(d) Rate Filing: Second Amended IA Between Southern Companies and DESC to be effective 6/15/2019.

Filed Date: 10/15/19.

Accession Number: 20191015-5283.

Comments Due: 5 p.m. ET 11/5/19.

Docket Numbers: ER20-120-000.

Applicants: San Diego Gas & Electric Company.

Description: Annual Filing of Revised Costs and Accruals for Post-Employment Benefits Other than Pensions of San Diego Gas & Electric Company.

Filed Date: 10/15/19.

Accession Number: 20191015-5286.

Comments Due: 5 p.m. ET 11/5/19.

Docket Numbers: ER20-121-000.

Applicants: Evergy Metro, Inc.

Description: Tariff Cancellation: Request for Cancellation, KCP&L Co. Vol 4 MBR Tariff Title Database to be effective 12/16/2019.

Filed Date: 10/15/19.

Accession Number: 20191015-5287.

Comments Due: 5 p.m. ET 11/5/19.

Take notice that the Commission received the following electric securities filings:

Docket Numbers: ES20-2-000.

Applicants: Baltimore Gas and Electric Company.

Description: Application Under Section 204 of the Federal Power Act for Authorization to Issue Securities of Baltimore Gas and Electric Company.

Filed Date: 10/15/19.

Accession Number: 20191015-5204.

Comments Due: 5 p.m. ET 11/5/19.

Docket Numbers: ES20-3-000.

Applicants: PECO Energy Company.

Description: Application Under Section 204 of the Federal Power Act for Authorization to Issue Securities of PECO Energy Company.

Filed Date: 10/15/19.

Accession Number: 20191015-5253.

Comments Due: 5 p.m. ET 11/5/19.

Docket Numbers: ES20-4-000.

Applicants: Delmarva Power & Light Company, Potomac Electric Power Company.

Description: Joint Application Under Section 204 of the Federal Power Act for Authorization to Issue Securities of Delmarva Power & Light Company and Potomac Electric Power Company.

Filed Date: 10/15/19.

Accession Number: 20191015-5278.

Comments Due: 5 p.m. ET 11/5/19.

Docket Numbers: ES20-5-000.

Applicants: Commonwealth Edison Company.

Description: Application Under Section 204 of the Federal Power Act for Authorization to Issue Securities of Commonwealth Edison Company.

Filed Date: 10/15/19.

Accession Number: 20191015-5291.

Comments Due: 5 p.m. ET 11/5/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Nathaniel J. Davis, Sr.,
Deputy Secretary.

[FR Doc. 2019-22886 Filed 10-18-19; 8:45 am]

BILLING CODE 6717-01-P